DEPARTMENT OF ENERGY

Federal Energy Regulatory Commission

Combined Notice of Filings #1

Take notice that the Commission received the following electric corporate filings:

Docket Numbers: EC25-109-000.

Applicants: Kiowa Power Partners, LLC, Tenaska Gateway Partners, Ltd., Tenaska Virginia Partners, L.P.

Description: Application for Authorization Under Section 203 of the Federal Power Act of Kiowa Power Partners, LLC.

Filed Date: 7/10/25.

Accession Number: 20250710-5147.

Comment Date: 5 p.m. ET 7/31/25.

Docket Numbers: EC25-110-000.

Applicants: SR Terrell, LLC, SR Hazlehurst III, LLC, SR Snipesville, LLC.

Description: Application for Authorization Under Section 203 of the Federal Power Act of SR Terrell, LLC.

Filed Date: 7/10/25.

Accession Number: 20250710-5158.

Comment Date: 5 p.m. ET 7/31/25.

Docket Numbers: EC25-111-000.

Applicants: SR Baxley, LLC, SR Georgia Portfolio I MT, LLC.

Description: Joint Application for Authorization Under Section 203 of the Federal Power Act of SR Baxley, LLC, et al.

Filed Date: 7/10/25.

Accession Number: 20250710-5162.

Comment Date: 5 p.m. ET 7/31/25.

Docket Numbers: EC25-112-000.

Applicants: SR Lambert I, LLC, SR Lambert II, LLC.

Description: Joint Application for Authorization Under Section 203 of the Federal Power Act of SR Lambert I, LLC, et al.

Filed Date: 7/10/25.

Accession Number: 20250710-5164.

Comment Date: 5 p.m. ET 7/31/25.

Docket Numbers: EC25-113-000.

Applicants: Aquamarine Westside, LLC, Aquamarine Lessee, LLC, Castanea Project, LLC, Westlands Solar Blue (OZ) Owner, LLC, Westlands Transmission Project Owner, LLC.

Description: Joint Application for Authorization Under Section 203 of the Federal Power Act of Aquamarine Westside, LLC, et al.

Filed Date: 7/10/25.

Accession Number: 20250710-5166.

Comment Date: 5 p.m. ET 7/31/25.

Take notice that the Commission received the following exempt wholesale generator filings:

Docket Numbers: EG25-386-000.

Applicants: Permian Power LLC.

Description: Permian Power LLC submits Notice of Self-Certification of Exempt Wholesale Generator Status.

Filed Date: 7/11/25.

Accession Number: 20250711-5176.

Comment Date: 5 p.m. ET 8/1/25.

Docket Numbers: EG25-387-000.

Applicants: Faraday Energy Storage LLC.

Description: Faraday Energy Storage LLC submits Notice of Self-Certification of Exempt Wholesale Generator Status.

Filed Date: 7/14/25.

Accession Number: 20250714-5063.

Comment Date: 5 p.m. ET 8/4/25.

Docket Numbers: EG25-388-000.

Applicants: Faraday Energy Storage II LLC.

Description: Faraday Energy Storage II LLC submits Notice of Self-Certification of Exempt Wholesale Generator Status.

Filed Date: 7/14/25.

Accession Number: 20250714-5067.

Comment Date: 5 p.m. ET 8/4/25.

Take notice that the Commission received the following electric rate filings:

Docket Numbers: ER10-2137-028; ER14-2799-019; ER10-2138-029; ER10-2139-029; ER10-2140-028; ER10-2141-028; ER14-2187-022; ER21-258-005.

Applicants: Todd Solar LLC, Grand Ridge Energy Storage LLC, Grand Ridge Energy V LLC, Grand Ridge Energy IV LLC, Grand Ridge Energy III LLC, Grand Ridge Energy II LLC, Beech Ridge Energy Storage LLC, Beech Ridge Energy LLC.

Description: Second Supplement to 06/28/2023, Triennial Market Power Analysis for Northeast Region of Beech Ridge Energy LLC, et al.

Filed Date: 7/10/25.

Accession Number: 20250710-5149.

Comment Date: 5 p.m. ET 7/31/25.

Docket Numbers: ER10-2434-013; ER19-1635-004; ER17-1666-010; ER18-1709-005; ER10-2436-013.

Applicants: Wapsipinicon Wind Project, LLC, Stoneray Power Partners, LLC, Red Pine Wind Project, LLC, Glaciers Edge Wind Project, LLC, Fenton Power Partners I, LLC.

Description: Supplement to 06/26/2024, Triennial Market Power Analysis for Central Region of Fenton Power Partners I, LLC, et al.

Filed Date: 7/11/25.

Accession Number: 20250711-5191.

Comment Date: 5 p.m. ET 8/1/25.

Docket Numbers: ER24-1411-003.

Applicants: Alabama Power Company, Georgia Power Company, Mississippi Power Company.

Description: Compliance filing: Alabama Power Company submits tariff filing per 35: Order No. 2023-A Compliance Filing In Response to FERC Order to be effective 4/5/2024.

Filed Date: 7/14/25.

Accession Number: 20250714-5133.

Comment Date: 5 p.m. ET 8/4/25.

Docket Numbers: ER24-1868-001.

Applicants: El Paso Electric Company.

Description: Compliance filing: OATT Revisions—Attachment M and N to be effective 6/3/2024.

Filed Date: 7/14/25.

Accession Number: 20250714-5125.

Comment Date: 5 p.m. ET 8/4/25.

Docket Numbers: ER24-2030-001.

Applicants: Public Service Company of Colorado.

Description: Compliance filing: 2025-07-14 Order 2023 Compliance Filing—Att N & P to be effective 12/31/9998.

Filed Date: 7/14/25.

Accession Number: 20250714-5103.

Comment Date: 5 p.m. ET 8/4/25.

Docket Numbers: ER24-2042-001.

Applicants: California Independent System Operator Corporation.

Description: Compliance filing: 2025-07-14 Second Compliance Filing—FERC Order No. 2023—LGIA & SGIA to be effective 5/17/2024.

Filed Date: 7/14/25.

Accession Number: 20250714-5121.

Comment Date: 5 p.m. ET 8/4/25.

Docket Numbers: ER25-2386-000.

Applicants: Arche Energy Project Tenant, LLC.

Description: Supplement to 05/30/2025, Arche Energy Project Tenant, LLC tariff filing.

Filed Date: 7/9/25.

Accession Number: 20250709-5202.

Comment Date: 5 p.m. ET 7/21/25.

Docket Numbers: ER25-2627-000.

Applicants: Southern California Edison Company.

Description: Notice of Termination of Generator Interconnection Agreement of Southern California Edison Company.

Filed Date: 6/24/25.

Accession Number: 20250624-5926.

Comment Date: 5 p.m. ET 7/28/25.

Docket Numbers: ER25-2767-000.

Applicants: Emily Solar, LLC.

Description: Supplement to 07/02/2025, Emily Solar, LLC tariff filing.

Filed Date: 7/10/25.

Accession Number: 20250710-5169.

Comment Date: 5 p.m. ET 7/31/25.

Docket Numbers: ER25-2843-000.

Applicants: Alpaugh BESS, LLC.

Description: § 205(d) Rate Filing: Initial Market Based Rate filing to be effective 7/14/2025.

Filed Date: 7/11/25.

Accession Number: 20250711-5171.

Comment Date: 5 p.m. ET 8/1/25.

Docket Numbers: ER25-2844-000.

Applicants: PJM Interconnection, L.L.C.

Description: § 205(d) Rate Filing: Amendment to WMPA, SA No. 6980; Queue No. AF2-060 (amend) to be effective 3/10/2025.

Filed Date: 7/14/25.

Accession Number: 20250714-5049.

Comment Date: 5 p.m. ET 8/4/25.

Docket Numbers: ER25-2845-000.

Applicants: Midcontinent Independent System Operator, Inc.

Description: § 205(d) Rate Filing: 2025-07-14_Demand Reduction Capability Enhancements (Real Power Test) to be effective 7/15/2025.

Filed Date: 7/14/25.

Accession Number: 20250714-5172.

Comment Date: 5 p.m. ET 8/4/25.

Take notice that the Commission received the following electric reliability filings:

Docket Numbers: RR25-4-000.

Applicants: Western Electricity Coordinating Council, Texas Reliability Entity, Inc., SERC Reliability Corporation, ReliabilityFirst Corporation, Northeast Power Coordinating Council, Inc., Midwest Reliability Organization, North American Electric Reliability Corporation.

Description: Petition of the North American Electric Reliability Corporation, et al. for approval of the revised Pro Forma Regional Delegation Agreement and revised Regional Entity RDAs.

Filed Date: 7/14/25.

Accession Number: 20250714-5175.

Comment Date: 5 p.m. ET 8/4/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 14, 2025.
Carlos D. Clay,
Deputy Secretary.

[FR Doc. 2025-13426 Filed 7-16-25; 8:45 am]

BILLING CODE 6717-01-P